DEPARTMENT OF HOUSING AND URBAN DEVELOPMENT

[Docket No. FR-5067-N-02]

Extension of Period of Submission for Notices of Intent and Fungibility Plans in Accordance With HUD's Implementation Guidance for Section 901 of the Emergency Supplemental Appropriations To Address Hurricanes in the Gulf of Mexico, and Pandemic Influenza Act, 2006

AGENCY: Office of the Assistant Secretary for Public and Indian Housing, HUD.

ACTION: Notice.

SUMMARY: On July 28, 2006, HUD published a notice entitled, “Implementation Guidance for Section 901 of the Emergency Supplemental Appropriations to Address Hurricanes in the Gulf of Mexico, and Pandemic Influenza Act, 2006.” This notice extends the period for eligible public housing agencies (PHAs) located within the most heavily impacted areas of Louisiana and Mississippi that are subject to a declaration by the President of a major disaster under the Robert T. Stafford Disaster Relief and Emergency Assistance Act in connection with Hurricanes Katrina or Rita to submit Notices of Intent and Fungibility Plans in accordance with the July 28, 2006, notice. Section 901 of the supplemental appropriations act authorizes PHAs to combine assistance provided under sections 9(d) and (e) of the United States Housing Act of 1937 (Act) and assistance provided under section 8(o) of the Act, for the purpose of facilitating the prompt, flexible, and efficient use of funds provided under these sections of the Act to assist families who were receiving housing assistance under the Act immediately prior to Hurricane Katrina or Rita and were displaced from their housing by the hurricanes. In addition to extending the PHA submission deadline, this notice removes the restriction that the combined funding may not be spent for uses under the housing choice voucher (HCV) program. If approved by HUD, the combined funding may now be used for eligible purposes under the HCV program. Any use of combined funds under the HCV program must also be in accordance with the requirement to assist those families who were receiving housing assistance under the public housing or HCV program immediately prior to Hurricane Katrina or Rita and were displaced from their housing by the hurricane. A PHA that already has an approved Fungibility Plan may request HUD approval to change the Plan in order to use the combined funds for HCV program eligible purposes. As provided in the July 28, 2006 Federal Register notice, PHAs must submit to HUD requests for approval of any substantial deviations from the approved Fungibility Plan, and HUD will respond to such requests within 10 calendar days.

DATES: Eligible PHAs must submit their Notices of Intent and Fungibility Plans no later than November 21, 2006.

FOR FURTHER INFORMATION CONTACT: For technical assistance and other questions concerning the Notice of Intent and Section 901 Fungibility Plan, PHAs should contact their local HUD Public Housing Hub in New Orleans, Louisiana, or Jackson, Mississippi; or Bessy Kong, Deputy Assistant Secretary for Policy, Program, and Legislative Initiatives, Office of Public and Indian Housing, Department of Housing and Urban Development, 451 Seventh Street, SW., Room 4216, Washington, DC 20410-5000, telephone (202) 708-0614 or 708-0713, extension 2548 (this is not a toll-free number). Persons with hearing or speech impairments may access this number via TTY by calling the toll-free Federal Information Relay Service at (800) 877-8339.

SUPPLEMENTARY INFORMATION:

I. Background

On July 28, 2006 (71 FR 42996), HUD published a notice entitled, “Implementation Guidance for Section 901 of the Emergency Supplemental Appropriations to Address Hurricanes in the Gulf of Mexico, and Pandemic Influenza Act, 2006.” Section V.A. of the July 28, 2006, notice, entitled, “General Procedures for Combining Public Housing and Voucher Funds Under Section 901,” instructs that PHAs interested in implementing the flexibility authorized in Section 901 should submit, in writing for HUD review and approval, no later than 45 days from the date of the notice or September 11, 2006: (1) A Notice of Intent to invoke Section 901 flexibility and (2) a detailed Section 901 Fungibility Plan describing the total amount under Section 901, and the source of those funds by account (HCV, Operating Fund, Capital Fund).

Some eligible PHAs are facing circumstances that precluded submission of their Notices of Intent and Fungibility plans by September 11, 2006, and require additional time to determine whether program funds are available to combine for other program uses. Therefore, HUD has extended the period during which eligible PHAs may submit their Notices of Intent and Fungibility Plans to no later than November 21, 2006, in order to allow sufficient time for HUD to review and approve the plans. HUD strongly recommends earlier submission, if possible, in the event resubmission of plans is required because of HUD's review determinations. HUD must approve all plans, including those that must be resubmitted, no later than December 31, 2006.

In addition to extending the PHA submission deadline, this notice removes the restriction that the combined funding may not be spent for uses under the housing choice voucher (HCV) program. If approved by HUD, the combined funding may now be used for eligible purposes under the HCV program. Any use of combined funds under the HCV program must also be in accordance with the requirement to assist those families who were receiving housing assistance under the public housing or HCV program immediately prior to Hurricane Katrina or Rita and were displaced from their housing by the hurricane.

A PHA that already has an approved Fungibility Plan may request HUD approval to change the Plan in order to use the combined funds for HCV program eligible purposes. As provided in the July 28, 2006 Federal Register Notice, PHAs must submit to HUD requests for approval of any substantial deviations from the approved Fungibility Plan, and HUD will respond to such requests within 10 calendar days.

Notices and Plans should be submitted to the following addresses and contacts, as listed in the July 28, 2006, notice: PHAs should submit one copy to the Public Housing Director of the HUD office in New Orleans, Louisiana or Jackson, Mississippi, as applicable, and the original to HUD Headquarters, Office of Public and Indian Housing, Office of Policy, Program, and Legislative Initiatives, 451 Seventh Street, SW., Room 4116, Washington, DC 20410-5000, Attention: Bessy Kong/Sherry McCown.

II. List of Louisiana and Mississippi PHAs Heavily Impacted by Hurricane Katrina or Rita

The following list includes PHAs in counties eligible to receive individual and public assistance through FEMA as a result of damages sustained from Hurricanes Katrina and Rita.

No. | HA code | HA name | County | State | Hurricane
1 | LA001 | New Orleans Housing Authority (HA) | Orleans | LA | Katrina.
2 | LA003 | E. Baton Rouge HA | East Baton Rouge | LA | Katrina.
3 | LA004 | Lake Charles HA | Calcasieu | LA | Katrina and Rita.
4 | LA005 | Lafayette (City) HA | Lafayette | LA | Katrina and Rita.
5 | LA011 | Westwego | Jefferson | LA | Katrina and Rita.
6 | LA012 | Kenner HA | Jefferson | LA | Katrina and Rita.
7 | LA013 | Jefferson Parish HA | Jefferson | LA | Katrina and Rita.
8 | LA024 | Bogalusa HA | Washington | LA | Katrina.
9 | LA025 | Eunice HA | St. Landry | LA | Rita.
10 | LA026 | Kaplan HA | Vermilion | LA | Katrina and Rita.
11 | LA027 | New Iberia HA | Iberia | LA | Katrina and Rita.
12 | LA028 | Rayne HA | Acadia | LA | Katrina and Rita.
13 | LA029 | Crowley | Acadia | LA | Katrina and Rita.
14 | LA030 | Ville Platte HA | Evangeline | LA | Rita.
15 | LA031 | Mamou HA | Evangeline | LA | Rita.
16 | LA032 | Church Point HA | Acadia | LA | Katrina and Rita.
17 | LA033 | Oakdale HA | Allen | LA | Rita.
18 | LA034 | Abbeville HA | Vermilion | LA | Katrina and Rita.
19 | LA035 | Gueydan HA | Vermilion | LA | Katrina and Rita.
20 | LA036 | Morgan City HA | St. Mary | LA | Katrina and Rita.
21 | LA039 | Welsh HA | Jefferson Davis | LA | Katrina and Rita.
22 | LA040 | St. Martinville HA | St. Martin | LA | Katrina and Rita.
23 | LA041 | Lake Arthur HA | Jefferson Davis | LA | Katrina and Rita.
24 | LA043 | Donaldsonville HA | Ascension | LA | Katrina and Rita.
25 | LA044 | Thibodaux HA | Lafourche | LA | Katrina and Rita.
26 | LA046 | Vinton HA | Calcasieu | LA | Katrina and Rita.
27 | LA047 | Erath HA | Vermilion | LA | Katrina and Rita.
28 | LA055 | Opelousas HA | St. Landry | LA | Rita.
29 | LA056 | Berwick HA | St. Mary | LA | Katrina and Rita.
30 | LA058 | Basile HA | Evangeline | LA | Rita.
31 | LA059 | Breaux Bridge HA | St. Martin | LA | Katrina and Rita.
32 | LA063 | Sulphur HA | Calcasieu | LA | Katrina and Rita.
33 | LA065 | Delcambre HA | Vermilion | LA | Katrina and Rita.
34 | LA066 | Elton HA | Jefferson Davis | LA | Katrina and Rita.
35 | LA067 | St. Landry Parish HA | St. Landry | LA | Rita.
36 | LA068 | Oberlin HA | Allen | LA | Rita.
37 | LA069 | Kinder HA | Allen | LA | Rita.
38 | LA070 | Patterson HA | St. Mary | LA | Katrina and Rita.
39 | LA073 | South Landry HA | St. Landry | LA | Rita.
40 | LA074 | Sabine Parish HA | Sabine | LA | Rita.
41 | LA075 | Ponchatoula HA | Tangipahoa | LA | Katrina.
42 | LA080 | Lafourche Parish HA | Lafourche | LA | Katrina and Rita.
43 | LA082 | Merryville HA | Beauregard | LA | Rita.
44 | LA084 | Parks HA | St. Martin | LA | Katrina and Rita.
45 | LA086 | Deridder HA | Beauregard | LA | Rita.
46 | LA090 | Houma—Terrebonne HA | Terrebonne | LA | Katrina and Rita.
47 | LA091 | Southwest Acadia HA | Acadia | LA | Katrina and Rita.
48 | LA092 | St. James Parish HA | St. James | LA | Katrina.
49 | LA093 | White Castle HA | Iberville | LA | Katrina.
50 | LA094 | St. Charles Parish HA | St. Charles | LA | Katrina.
51 | LA095 | St. John the Baptist Parish HA | St. John the Baptist | LA | Katrina.
52 | LA099 | Independence HA | Tangipahoa | LA | Katrina.
53 | LA100 | Youngsville HA | Lafayette | LA | Katrina and Rita.
54 | LA101 | Denham Springs HA | Livingston | LA | Katrina and Rita.
55 | LA103 | Slidell HA | St. Tammany | LA | Katrina and Rita.
56 | LA106 | Dequincy HA | Calcasieu | LA | Katrina and Rita.
57 | LA111 | Leesville HA | Vernon | LA | Rita.
58 | LA113 | New Roads HA | Pointe Coupee | LA | Katrina.
59 | LA118 | Jennings HA | Jefferson Davis | LA | Katrina and Rita.
60 | LA128 | Vernon Parish HA | Vernon | LA | Rita.
61 | LA130 | Duson HA | Lafayette | LA | Katrina and Rita.
62 | LA231 | HA of Iowa | Calcasieu | LA | Katrina and Rita.
63 | LA238 | Covington HA | St. Tammany | LA | Katrina and Rita.
64 | LA250 | Ascension Parish | Ascension | LA | Katrina and Rita.
65 | LA261 | Fenton | Jefferson Davis | LA | Katrina and Rita.
66 | LA266 | White Castle City | Iberville | LA | Katrina.
67 | MS001 | Hattiesburg HA | Forrest | MS | Katrina.
68 | MS002 | Laurel HA | Jones | MS | Katrina.
69 | MS003 | McComb HA | Pike | MS | Katrina.
70 | MS004 | Meridian HA | Lauderdale | MS | Katrina.
71 | MS005 | Biloxi HA | Harrison | MS | Katrina.
72 | MS019 | Mississippi Regional HA No. IV | Lowndes | MS | Katrina.
73 | MS030 | Mississippi Regional HA No. V | Newton | MS | Katrina.
74 | MS040 | Mississippi Regional HA No. VIII | Harrison | MS | Katrina.
75 | MS047 | Starkville HA | Oktibbeha | MS | Katrina.
76 | MS057 | Mississippi Regional HA No. VII | Pike | MS | Katrina.
77 | MS058 | Mississippi Regional HA No. VI | Hinds | MS | Katrina.
78 | MS060 | Brookhaven HA | Lincoln | MS | Katrina.
79 | MS061 | Canton HA | Madison | MS | Katrina.
80 | MS063 | Yazoo City HA | Yazoo | MS | Katrina.
81 | MS064 | Bay St. Louis HA | Hancock | MS | Katrina.
82 | MS066 | Picayune HA | Pearl River | MS | Katrina.
83 | MS067 | Richton HA | Perry | MS | Katrina.
84 | MS068 | Waynesboro HA | Wayne | MS | Katrina.
85 | MS076 | Columbus HA | Lowndes | MS | Katrina.
86 | MS079 | Louisville HA | Winston | MS | Katrina.
87 | MS084 | Summit HA | Pike | MS | Katrina.
88 | MS086 | Vicksburg HA | Warren | MS | Katrina.
89 | MS094 | Hazlehurst HA | Copiah | MS | Katrina.
90 | MS099 | Lumberton HA | Lamar | MS | Katrina.
91 | MS101 | Waveland HA | Hancock | MS | Katrina.
92 | MS103 | Jackson HA | Hinds | MS | Katrina.
93 | MS105 | Natchez HA | Adams | MS | Katrina.
94 | MS109 | Long Beach HA | Harrison | MS | Katrina.
95 | MS111 | Forest HA | Scott | MS | Katrina.
96 | MS117 | Attala County HA | Attala | MS | Katrina.

Dated: October 24, 2006.
Paula O. Blunt,
General Deputy Assistant, Secretary for Public and Indian Housing.

[FR Doc. 06-8979 Filed 10-26-06; 1:56 pm]

BILLING CODE 4210-67-P